DEPARTMENT OF TRANSPORTATION

Federal Aviation Administration

14 CFR Parts 13, 61, 119, 125, 135, and 142

[Docket No. FAA-2001-10047; Notice No. 01-11]

RIN 2120-AH06

Regulation of Fractional Aircraft Ownership Programs and On-Demand Operations; Extension of Comment Period

AGENCY: Federal Aviation Administration (FAA), DOT.

ACTION: Notice of proposed rulemaking (NPRM); extension of comment period.

SUMMARY: This action extends the comment periods for an NPRM that was published on July 18, 2001. In that document, the FAA proposed to update and revise the regulations governing operations by aircraft in fractional ownership programs. This extension is a result of several requests to extend the comment period to the proposal.

EFFECTIVE DATE: Comments must be received on or before November 16, 2001.

ADDRESSES: Comments on this document should be mailed or delivered, in duplicate, to: U.S. Department of Transportation Dockets, Docket No. FAA-2001-10047, 400 Seventh Street, SW., Room Plaza 401, Washington, DC 20590. Comments may be filed and examined in Room Plaza 401 between 10 a.m. and 5 p.m. weekdays, except Federal holidays. Comments also may be sent electronically to the Dockets Management System (DMS) at the following Internet address; http://dms.dot.gov at any time. Commenters who wish to file comments electronically, should follow the instructions on the DMS web site.

FOR FURTHER INFORMATION CONTACT: Katherine Hakala Perfetti, Flight Standards Service (AFS-200), Federal Aviation Administration, 800 Independence Ave., SW., Washington, DC 20591; telephone: (202) 267-3760; or e-mail: kaktherine.perfetti@faa.gov.

SUPPLEMENTARY INFORMATION:

Comments Invited

The FAA invites interested persons to participate in this rulemaking by submitting written comments, data, or views. We also invite comments relating to the economic, environmental, energy, or federalism impacts that might result from adopting the proposals in this document. The most helpful comments reference a specific portion of the proposal, explain the reason for any recommended change, and include supporting data. We ask that you send us two copies of written comments.

We will file in the docket all comments we received, as well as report summarizing each substantive public contact with FAA personnel concerning this proposal rulemaking. The docket is available for inspection before and after the comment closing date. If you wish to review the docket in person, go to the address in the ADDRESSES section of this preamble between 9 a.m. and 5 p.m. Monday through Friday, except Federal holidays. You may also review the docket using the Internet at the web address in the ADDRESSES section.

Before acting on this proposal, we will consider all comments we receive on or before the closing date for comments. We will consider comments filed date if it is possible to do so without incurring expense or delay. We may change this proposal in light of the comments we receive.

If you want the FAA to acknowledge receipt of your comments on this proposal, include with your comments a pre-addressed, stamped postcard on which the docket number appears. We will stamp the date on the postcard and mail it to you.

Background

On July 18, 2001, the Federal Aviation Administration (FAA) issued Notice No. 01-08, Regulation of Fractional Aircraft Ownership Programs and On-Demand Operations (66 FR 37520, 7/18/2001). This notice provided for a 90-day comment period. Comments pertaining to the document were to be received on or before October 16, 2001.

Several petitioners have requested an extension of the comment period. An individual petitioner requested a nine-month extension by letter dated July 15, 2001. The National Air Transportation Association and the National Business Aviation Association, by letters dated October 1 and October 3, 2001, respectively, requested the FAA to extend the comment period for Notice No. 01-08 for 30 days. By letter dated October 3, 2001, the National Transportation Safety Board requested a 90-day extension. The three recent requests cited the national security events that occurred on September 11, 2001 to support their requests for an extension. The petitioners mentioned that the recent events demanded a significant diversion of resources, making it difficult to provide well-developed, thoughtful comments on the proposed regulation. These events also raised safety issued that may need to be addressed during the comment period.

The FAA acknowledges that the tragic events of September 11 have required the nation's attention and concurs with the petitioners' requests that it is appropriate to extend the comment period on Notice No. 01-08. The need for additional time for thoughtful comment must be balanced against the need to proceed expeditiously with a rulemaking that will maintain a high standard of safety for the fractional aircraft ownership industry. The FAA believes an additional 30 days would be adequate for the petitioners to provide meaningful comment to Notice No. 01-08. This will also allow commenters who may have anticipated an extension in the comment periods to submit their comments by a certain date. Absent unusual circumstances, the FAA does not anticipate any further extension of the comment period for this rulemaking.

Extension of Comment Period

In accordance with § 11.47 of Title 14, Code of Federal Regulations, the FAA has reviewed the requests for extension of the comment period to Notice No. 01-08. These petitioners have shown a substantive interest in the proposed rule and good cause for the extension. The FAA also have determined that an extension of the comment period is consistent with the public interest, and that good cause exists for taking this action.

Accordingly, the comment period for Notice No. 01-08 is extended until November 16, 2001.

Issued in Washington, DC, October 10, 2001.
Nicholas A. Sabatini,
Director, Flight Standards Service.

[FR Doc. 01-26226 Filed 10-17-01; 8:45 am]

BILLING CODE 4910-13-M